EXPORT-IMPORT BANK OF THE UNITED STATES

[Public Notice 2012-0346]

Application for Final Commitment for a Long-Term Loan or Financial Guarantee in Excess of $100 Million

AGENCY: Export-Import Bank of the U.S.

ACTION: Notice of 25-day comment period regarding an application for final commitment for a long-term loan or financial guarantee in excess of $100 million.

Reason for Notice: This Notice is to inform the public, in accordance with Section 3(c)(10) of the Charter of the Export-Import Bank of the United States (“Ex-Im Bank”), that Ex-Im Bank has received an application for final commitment for a long-term loan or financial guarantee in excess of $100 million (as calculated in accordance with Section 3(c)(10) of the Charter).

Comments received within the comment period specified below will be presented to the Ex-Im Bank Board of Directors prior to final action on this Transaction.

Reference: AP084837XX.

Purpose and Use:

Brief description of the purpose of the transaction:

To support the export of a telecommunications satellite and associated equipment to Vietnam.

Brief non-proprietary description of the anticipated use of the items being exported:

To provide telecommunication services to Vietnam and the surrounding region.

To the extent that Ex-Im Bank is reasonably aware, the item(s) being exported are not expected to be used to produce exports or provide services in competition with the exportation of goods or provisions of services by a US industry.

Parties:

Principal Supplier: Lockheed Martin Corporation.

Obligor: Vietnam acting by and through the Ministry of Finance.

Guarantor(s): None.

Description of Items Being Exported:One telecommunications satellite and associated equipment.

Information on Decision: Information on the final decision for this transaction will be available in the “Summary Minutes of Meetings of Board of Directors” on http://www.exim.gov/articles.cfm/board%20minute.

Confidential Information: Please note that this notice does not include confidential or proprietary business information; information which, if disclosed, would violate the Trade Secrets Act; or information which would jeopardize jobs in the United States by supplying information that competitors could use to compete with companies in the United States.

DATES: Comments must be received on or before September 17, 2012 to be assured of consideration.

ADDRESSES: Comments may be submitted through www.regulations.gov.

Sharon A. Whitt,
Agency Clearance Officer.

[FR Doc. 2012-20731 Filed 8-22-12; 8:45 am]

BILLING CODE 6690-01-P